DEPARTMENT OF THE TREASURY

Internal Revenue Service

Advisory Group to the Internal Revenue Service Tax Exempt and Government Entities Division (TE/GE); Meeting

AGENCY: Internal Revenue Service (IRS), Treasury.

ACTION: Notice.

SUMMARY: The Advisory Committee on Tax Exempt and Government Entities (ACT) will hold a public meeting on Wednesday, June 9, 2010.

FOR FURTHER INFORMATION CONTACT: Steven J. Pyrek, Director, TE/GE Communications and Liaison; 1111 Constitution Ave., NW.; SE:T:CL—Penn Bldg; Washington, DC 20224. Telephone: 202-283-9966 (not a toll-free number). E-mail address: Steve.J.Pyrek@irs.gov.

SUPPLEMENTARY INFORMATION: By notice herein given, pursuant to section 10(a)(2) of the Federal Advisory Committee Act, 5 U.S.C. App. (1988), a public meeting of the ACT will be held on Wednesday, June 9, 2010, from 9 a.m. to 12 p.m., at the Internal Revenue Service; 1111 Constitution Ave., NW.; Room 3313; Washington, DC. Issues to be discussed relate to Employee Plans, Exempt Organizations, and Government Entities.

Reports from five ACT subgroups cover the following topics:

• Employee Plans: Analysis and Recommendations Regarding the IRS's Determination Letter Program

• Federal-State-Local Government Compliance Verification Checklist for Public Employers (Phase II)

• FICA Taxes in Indian Country and the Problem of Selective Incorporation in Administration of the Code

• The Implementation of Tribal Economic Development Bonds Under the American Recovery and Reinvestment Act of 2009

• Tax Exempt Bonds: Improvements to the Voluntary Closing Agreement Program for Tax-Exempt, Tax Credit and Direct Pay Bonds

• Exempt Organizations: Getting It Right: An Online Guide to Setting Executive Compensation for Charities

Last minute agenda changes may preclude advance notice. Due to limited seating and security requirements, attendees must call Cynthia PhillipsGrady to confirm their attendance. Ms. PhillipsGrady can be reached at (202) 283-9954. Attendees are encouraged to arrive at least 30 minutes before the meeting begins to allow sufficient time for security clearance. Picture identification must be presented. Please use the main entrance at 1111 Constitution Ave., NW., to enter the building. Should you wish the ACT to consider a written statement, please call (202) 283-9966, or write to: Internal Revenue Service; 1111 Constitution Ave., NW.; SE:T:CL-Penn Bldg; Washington, DC 20224, or e-mail Steve.J.Pyrek@irs.gov.

Dated: May 19, 2010.
Steven J. Pyrek,
Designated Federal Official, Tax Exempt and Government Entities Division.

[FR Doc. 2010-12736 Filed 5-26-10; 8:45 am]

BILLING CODE 4830-01-P